DEPARTMENT OF THE TREASURY

Office of Foreign Assets Control

Notice of OFAC Sanctions Actions

SUB-AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On July 17, 2020 OFAC determined that the property and interests in property subject to U.S. jurisdiction of the following persons are blocked under the relevant sanctions authorities listed below.

Individuals

1. CHENG, Guifeng; DOB 02 Feb 1958; nationality China; Gender Female; Registration ID 31010819580202164 (China) (individual) [SDNTK]. Designated pursuant to section 805(b)(2) of the Foreign Narcotics Kingpin Designation Act (“Kingpin Act”), 21 U.S.C. 1904(b)(2), for materially assisting in, or providing financial or technological support for or to, or providing goods or services in support of, the international narcotics trafficking activities of the Zheng Drug Trafficking Organization, a foreign person identified as a significant foreign narcotics trafficker pursuant to the Kingpin Act.

2. JI, Songyan; DOB 15 Oct 1994; nationality China; Registration ID 310230199410154380 (China) (individual) [SDNTK]. Designated pursuant to section 805(b)(2) of the Foreign Narcotics Kingpin Designation Act (“Kingpin Act”), 21 U.S.C. 1904(b)(2), for materially assisting in, or providing financial or technological support for or to, or providing goods or services in support of, the international narcotics trafficking activities of the Zheng Drug Trafficking Organization, a foreign person identified as a significant foreign narcotics trafficker pursuant to the Kingpin Act.

3. ZHANG, Longbao; DOB 10 Nov 1954; alt. DOB 11 Oct 1954; nationality China; Registration ID 310230195411106219 (China) (individual) [SDNTK]. Designated pursuant to section 805(b)(2) of the Foreign Narcotics Kingpin Designation Act (“Kingpin Act”), 21 U.S.C. 1904(b)(2), for materially assisting in, or providing financial or technological support for or to, or providing goods or services in support of, the international narcotics trafficking activities of the Zheng Drug Trafficking Organization, a foreign person identified as a significant foreign narcotics trafficker pursuant to the Kingpin Act.

4. ZHENG, Guangfu; DOB 20 Jan 1958; nationality China; Registration ID 310107195801202418 (China) (individual) [SDNTK]. Designated pursuant to section 805(b)(2) of the Foreign Narcotics Kingpin Designation Act (“Kingpin Act”), 21 U.S.C. 1904(b)(2), for materially assisting in, or providing financial or technological support for or to, or providing goods or services in support of, the international narcotics trafficking activities of the Zheng Drug Trafficking Organization, a foreign person identified as a significant foreign narcotics trafficker pursuant to the Kingpin Act.

Entity

1. GLOBAL UNITED BIOTECHNOLOGY INC., Virgin Islands, British; Room 707, No. 67, Jinyu Road, Pudong, Shanghai 201206, China; website www.globalrc.net; Email Address researchchemical@aliyun.com; Registration Number 1700919 [SDNTK] (Linked To: ZHENG DRUG TRAFFICKING ORGANIZATION). Designated pursuant to section 805(b)(3) of the Kingpin Act, 21 U.S.C. 1904(b)(3), for being owned, controlled, or directed by, or acting for or on behalf of, the Zheng Drug Trafficking Organization, a foreign person identified as a significant foreign narcotics trafficker pursuant to the Kingpin Act.

Dated: July 17, 2020.
Andrea M. Gacki,
Director, Office of Foreign Assets Control.

[FR Doc. 2020-15847 Filed 7-21-20; 8:45 am]

BILLING CODE 4810-AL-P